PENSION BENEFIT GUARANTY CORPORATION

29 CFR Parts 4050 and 4281

RIN 1212-AB08

Mortality Assumptions

AGENCY: Pension Benefit Guaranty Corporation.

ACTION: Proposed rule.

SUMMARY: This proposed rule is a companion to PBGC's direct final rule (published today in the “Rules and Regulations” section of the Federal Register) making changes to the mortality assumptions under parts 4050 (Missing Participants) and 4281 (Duties of Plan Sponsor Following Mass Withdrawal) of its regulations. PBGC is making these changes as a direct final rule without prior proposal because we view them as non-controversial revisions and anticipate no significant adverse comment. We have explained our reasons in the preamble to the direct final rule. If we receive no significant adverse comment, no further action on this proposed rule will be taken. However, if we receive significant adverse comment, we will withdraw the direct final rule and it will not take effect. In that case, we will address all public comments in a subsequent final rule based on this proposed rule. We will not institute a second comment period on this rule. Any parties interested in commenting must do so at this time.

DATES: Comments must be received on or before January 16, 2007.

ADDRESSES: Comments, identified by RIN number 1212-AB08, may be submitted by any of the following methods:

• Federal eRulemaking Portal: http://www.regulations.gov. Follow the Web site instructions for submitting comments.

• E-mail: reg.comments@pbgc.gov.

• Fax: 202-326-4224.

• Mail or Hand Delivery: Legislative and Regulatory Department, Pension Benefit Guaranty Corporation, 1200 K Street, NW., Washington, DC 20005-4026.

All submissions must include the Regulatory Information Number for this rulemaking (RIN number 1212-AB08). Comments received, including personal information provided, will be posted to http://www.pbgc.gov. Copies of comments may also be obtained by writing to Disclosure Division, Office of the General Counsel, Pension Benefit Guaranty Corp., 1200 K Street, NW, Washington, DC 20005-4026 or calling 202-326-4040 during normal business hours. (TTY and TDD users may call the Federal relay service toll-free at 1-800-877-8339 and ask to be connected to 202-326-4040.)

FOR FURTHER INFORMATION CONTACT: Catherine B. Klion, Manager, or James L. Beller, Jr., Attorney, Regulatory and Policy Division, Legislative and Regulatory Department, Pension Benefit Guaranty Corp., 1200 K Street, NW., Suite 1200, Washington, DC 20005-4026; 202-326-4024. (TTY/TDD users may call the Federal relay service toll-free at 1-800-877-8339 and ask to be connected to 202-326-4024.)

SUPPLEMENTARY INFORMATION: In the “Rules and Regulations” section of today's Federal Register, PBGC is publishing a direct final rule making changes to the mortality assumptions under parts 4050 (Missing Participants) and 4281 (Duties of Plan Sponsor Following Mass Withdrawal) of its regulations. The provisions proposed here are those contained in the direct final rule. Please refer to the preamble and regulatory text of the direct final rule for further information and the actual text of the revisions. Additionally, all information regarding Statutory and Executive Orders for this proposed rule can be found in the Supplementary Information section of the direct final rule.

Issued in Washington, DC, this 8th day of December, 2006.
Vincent K. Snowbarger,
Interim Director, Pension Benefit Guaranty Corporation.

[FR Doc. E6-21279 Filed 12-13-06; 8:45 am]

BILLING CODE 7709-01-P